DEPARTMENT OF LABOR

Employment and Training Administration

[TA-W-53,360]

Volt Services Group, Orange, California; Notice of Termination of Investigation

Pursuant to section 221 of the Trade Act of 1974, as amended, an investigation was initiated on October 28, 2003, in response to a petition filed by a state agency representative on behalf of workers of Volt Services Group, Orange, California, working at Powerwave Technologies, Santa Ana, California.

The worker group for which the petition was filed is covered under an amended trade adjustment assistance certification, TA-W-51,325. Consequently, further investigation would serve no purpose and the investigation is terminated.

Signed in Washington, DC, on this 3rd day of December 2003.
Linda G. Poole,
Certifying Officer, Division of Trade Adjustment Assistance.

[FR Doc. 04-1521 Filed 1-23-04; 8:45 am]

BILLING CODE 4510-30-P